DEPARTMENT OF TRANSPORTATION

Federal Aviation Administration

Twenty Sixth Meeting: RTCA Special Committee 213, Enhanced Flight Vision Systems/Synthetic Vision Systems (EFVS/SVS)

AGENCY: Federal Aviation Administration (FAA), U.S. Department of Transportation (DOT).

ACTION: Meeting Notice of RTCA Special Committee 213, Enhanced Flight Vision Systems/Synthetic Vision Systems (EFVS/SVS).

SUMMARY: The FAA is issuing this notice to advise the public of the twenty sixth meeting of the RTCA Special Committee 213, Enhanced Flight Vision Systems/Synthetic Vision Systems (EFVS/SVS).

DATES: The meeting will be held September 16-19, 2014, from 8:30 a.m.-5 p.m. on September 16-18th, and 8:30 a.m.-4 p.m. on September 19th.

ADDRESSES: The meeting will be held at RTCA Headquarters, 1150 18th Street NW., Suite 910, Washington DC 20036. The RTCA SC-213 site has contact information to support the meetings. There will be a WebEx for this meeting to facilitate the FRAC review and disposition for remote members.

FOR FURTHER INFORMATION CONTACT: Tim Etherington, tjetheri@rockwellcollins.com, (319) 295-5233, Patrick Krohn, pkrohn@uasc.com, (425) 602-1375 and The RTCA Secretariat, 1150 18th Street NW., Suite 910, Washington, DC 20036, or by telephone at (202) 330-0652/(202) 833-9339, fax at (202) 833-9434, or Web site at http://www.rtca.org. Additional contact information: Please contact Patrick Krohn, pkrohn@uasc.com, telephone (425) 602-1375 or mobile at (425) 829-1996. RTCA contact is Jennifer Iverson, jiverson@rtca.org, (202) 330-0662.

SUPPLEMENTARY INFORMATION: Pursuant to section 10(a)(2) of the Federal Advisory Committee Act (Pub. L. 92-463, 5 U.S.C., App.), notice is hereby given for a meeting of Special Committee 213. The agenda will include the following:

Tuesday, September 16

• Plenary discussion (sign-in at 08:00 a.m.)

• Introductions and administrative items

• Review and approve minutes from last full plenary meeting

• Review of terms of reference (if needed)

• Status of DO-341A

• DO-315C FRAC Comment Review and Disposition

Wednesday, September 17

Plenary discussion

• DO-315C FRAC Comment Review and Disposition

Thursday, September 17

Plenary discussion

• DO-315C FRAC Comment Review and Disposition

Friday, September 18

Plenary discussion

• DO-315C FRAC Comment Review and Disposition

• Administrative items (new meeting location/dates, action items etc.)

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 30, 2014.
Mohannad Dawoud,
Management Analyst, NextGen, Business Operations Group, Federal Aviation Administration.

[FR Doc. 2014-18517 Filed 8-4-14; 8:45 am]

BILLING CODE 4910-13-P